DEPARTMENT OF THE INTERIOR

National Park Service

Notice of Intent to Repatriate Cultural Items: Milwaukee Public Museum, Milwaukee, WI

AGENCY: National Park Service, Interior.

ACTION: Notice.

Notice is here given in accordance with the Native American Graves Protection and Repatriation Act (NAGPRA), 25 U.S.C. 3005, of the intent to repatriate cultural items in the possession of the Milwaukee Public Museum, Milwaukee, WI that meet the definition of “objects of cultural patrimony” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The three cultural items are one wooden pipe (MPM 39618/10674), one partial belt of wampum (MPM 30127/7270), and one string of wampum beads (MPM 30128/7270).

In 1922, the partial wampum belt and wampum beads were collected for the museum by Alanson Skinner, the museum curator. Museum records indicate that one of the wampum items was collected from Ms. Harriet Quinney, daughter of Chief John Quinney of the Stockbridge-Munsee tribe. Tribal representatives have indicated that the wampum have ongoing historical, traditional or cultural importance to the tribe and could not have been alienated by a single individual.

In 1932, the pipe was purchased by the museum from Mr. Clarence Sheriff of Green Bay, WI. Museum records state the pipe was formerly the property of Austin Quinney (1791-1865) who was the brother of John Quinney, with whom one of the wampum items is associated. Ethnohistorical records confirm their identification as sachems of the Stockbridge community. Consultation evidence, as well as the iconography and style of the pipe, indicate that the pipe is of ceremonial character, would have been owned by a sachem of the community, and would not have been subject to alienation by an individual.

Officials of the Milwaukee Public Museum have determined that, pursuant to 25 U.S.C. 3001 (3)(D), the three cultural items described above have ongoing historical, traditional, or cultural importance central to the Native American group or culture itself, rather than property owned by an individual. Officials of the Milwaukee Public Museum also have determined that, pursuant to 25 U.S.C. 3001 (2), there is a relationship of shared group identity that can be reasonably traced between the objects of cultural patrimony and the Stockbridge Munsee Community, Wisconsin.

Representatives of any other Indian tribe that believes itself to be culturally affiliated with the objects of cultural property should contact Dawn Scher Thomae, Associate Curator of Anthropology, Milwaukee Public Museum, 800 W. Wells Street, Milwaukee, WI 53233, telephone (414) 278-6157, before November 30, 2007. Repatriation of the objects of cultural patrimony to the Stockbridge Munsee Community, Wisconsin may proceed after that date if no additional claimants come forward.

The Milwaukee Public Museum is responsible for notifying the Stockbridge Munsee Community, Wisconsin that this notice has been published.

Dated: September 17, 2007
Sherry Hutt,
Manager, National NAGPRA Program.

[FR Doc. E7-21369 Filed 10-30-07; 8:45 am]

BILLING CODE 4312-50-S